SECURITIES AND EXCHANGE COMMISSION

[File No. 500-1]

In the Matter of Solarbrook Water and Power Corp.; Order of Suspension of Trading

May 3, 2016.

It appears to the Securities and Exchange Commission that there is a lack of current and accurate information concerning the securities of Solarbrook Water and Power Corp. (“Solarbrook”) because of concerns regarding the accuracy and adequacy of information in the marketplace and potentially manipulative transactions in Solarbrook common stock. Solarbrook was a North Carolina corporation with its principal place of business located in Cary, NC, until April 4, 2012, when it was administratively dissolved by the state for failure to file required annual reports. Its stock is quoted on OTC Link (previously “Pink Sheets”), operated by OTC Markets Group Inc. (“OTC Link”), under the ticker symbol SLRW.

The Commission is of the opinion that the public interest and the protection of investors require a suspension of trading in the securities of the above-listed company.

Therefore, it is ordered, pursuant to Section 12(k) of the Securities Exchange Act of 1934, that trading in the securities of the above-listed company is suspended for the period from 9:30 a.m. EDT on May 3, 2016, through 11:59 p.m. EDT on May 16, 2016.

By the Commission.
Brent J. Fields,
Secretary.

[FR Doc. 2016-10677 Filed 5-3-16; 4:15 pm]

BILLING CODE 8011-01-P